FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Write Your Own (WYO) Program.

Type of Information Collection: Revision of a currently approved collection.

OMB Number: 3067-0169.

Abstract: Under the Write Your Own (WYO) Program, private sector insurance companies may offer flood insurance to eligible property owners. The Federal Government is guarantor of flood insurance coverage for WYO companies, issued under the WYO arrangements. In order to maintain adequate financial control over Federal funds, the NFIP requires that WYO companies submit a monthly financial report. The NFIP examines the data to ensure that policyholder funds are accounted for and appropriately expended.

Affected Public: Business or Other For-Profit.

Number of Respondents: 105.

Estimated Time per Respondent: 33 minutes.

Estimated Total Annual Burden Hours: 693 hours.

Frequency of Response: Monthly.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail muriel.anderson@fema.gov.

Dated: July 8, 2002.
Reginald Trujillo,
Branch Chief, Program Services and Systems Branch, Facilities Management and Services Division, Administration and Resource Planning Directorate.

[FR Doc. 02-17909 Filed 7-15-02; 8:45 am]

BILLING CODE 6718-01-P